DEPARTMENT OF HEALTH AND HUMAN SERVICES

Administration for Children and Families

[Program Announcement No. ACYF/HSB-2003-01]

Notice Inviting Abstracts for Grants To Support the Development of Innovation and Improvement Projects That Address the President's Initiatives Within Head Start Programs

AGENCY: Administration on Children, Youth and Families, ACF, DHHS.

ACTION: Notice.

SUMMARY: The Administration for Children and Families (ACF), the Administration on Children, Youth and Families (ACYF) invites abstracts from organizations for Innovation and Improvement Projects that address the President's initiatives related to the Head Start (including Early Head Start) program and other priorities which meet needs related to the comprehensive nature of Head Start, such as, medical and dental needs and the needs of special populations served by the program.

The Catalogue of Federal Domestic Assistance Number is 93.600.

DATES: The closing date for submitting abstracts under this announcement is May 12, 2003. An original and two copies are required. Mailed applications will be considered as meeting the announced deadline if they are postmarked on or before the published deadline date. Only abstracts, not full proposals, will be accepted under this announcement. Abstracts hand-carried by applicants, applicant couriers, other representatives of the applicant, or by overnight/express mail couriers or any other method of hand delivery shall be considered as meeting an announced deadline date if they are received on or before the published deadline date, between the hours of 8 a.m. and 4:30 p.m., e.d.t., Monday through Friday, (excluding Federal holidays), at the following address:

ACYF Operations Center, Program Announcement No. ACYF/HSB-2003-01, 1150 Connecticut Avenue, NW., Suite 1100, Washington, DC 20036. Telephone: 1-800-351-2293. E-mail: HSB@esilsg.org.

ACYF cannot accommodate the transmission of applications by FAX or through other electronic media. Therefore, applications transmitted to ACYF electronically will not be accepted regardless of the date or time of submission and time of receipt. ACYF may extend a deadline for applicants affected by Acts of God such as floods and hurricanes, when there is widespread disruptions of mail service, or for other disruptions of services, such as a prolonged blackout, that affect the public at large. A determination to waive or to extend deadline requirements rests with the Chief Grants Management Officer. Applicants will receive a confirmation postcard upon receipt of an abstract. Copies of the program announcement, necessary application forms, and appendices can be obtained by contacting the above address. Copies of the program announcement and necessary application forms can also be downloaded from the Head Start Web site at www.acf.hhs.gov/programs/hsb.

FOR FURTHER INFORMATION CONTACT: When contacting ACYF directly with questions send to William Wilson, Grants Officer, 330 C Street, SW., Washington, DC 20447, 202-205-8913, wwilson@acf.hhs.gov, or Frankie Hoover Gibson, Program Specialist, 330 C St, SW., Washington, DC 20447, 202-205-8399, fgibson@acf.hhs.gov.

Statutory Authority

This announcement is authorized by the Head Start Act (42 U.S.C. 9801).

Eligible Applicants

Any public or private non-profit organization, including state and local governments, Federally recognized Indian tribes, faith-based organizations, and private nonprofit organizations, including universities and other institutions of higher education, may apply. Applications may also be submitted by private for-profit organizations provided no grant funds are to be paid as profit to grantees, i.e., any amount in excess of allowable direct and indirect costs of the recipient (45 CFR 74.81).

Process for Application Submission

ACYF and the Head Start Bureau are engaging in a three-part process. First, eligible organizations are invited to submit an abstract based on the requirements in this announcement. Second, organizations submitting successful abstracts will be invited to submit applications, addressing the planning phase and the implementation phase, for competitive review and possible funding. Third, organizations successfully completing the planning phase will be eligible for consideration of implementation funding.

Available Funds

Financial awards will be made only in the second and third part of the process; no financial awards will be made based on abstracts submitted. An invitation to submit an application is not a guarantee of funding.

The number of projects funded as a result of this announcement will depend in large part on the quality and usefulness of the innovations and improvements responding organizations propose. In addition, we expect that the size of awards will vary significantly depending on the nature of each project. Generally, planning awards will be up to $100,000 and subsequent implementation awards will be up to $1,000,000. Smaller awards may be appropriate in many cases and occasionally larger awards will be justified. It is anticipated that $3,000,000 is available in FY 2003 for 30-40 planning grants. In later phases, we expect that total funding for planning and implementation grants will be up to $10,000,000 in any fiscal year. Planning awards will be for a period of up to nine months. Subsequent implementation awards will be for one to three 12-month periods. Continued funding of any project selected through the competitive process is contingent upon the continued availability of appropriated funds. Further, continued funding may be ended on a determination by ACYF that continuation of the project is no longer desirable from a policy perspective. In the latter event, ACYF will not terminate the funding prior to the end of the budget period and will provide the grantee with 45 days notice of the end of the project.

Applicants are encouraged to provide a share of the resources needed to support their proposal. However, there is no specific amount of non-federal support required of applicants or other third parties. If a proposed project activity has approved funding support from other funding sources the amount, duration, purpose and source of the funds should be indicated in materials submitted under this announcement. If completion of the proposed project activity is contingent upon approval of funding from other sources, the relationship between the funds being sought elsewhere and from ACYF should be discussed in the budget information submitted as a part of the abstract. In both cases, the contribution that ACYF funds will make to the project should be clearly presented.

Part I. Purpose and Background

Purpose

The Head Start program provides comprehensive child development services to more than 900,000 of our nation's neediest young children. The President has identified Head Start as an important link in the improvement of our country's education system through the Good Start, Grow Smart Early Childhood Initiative. ACYF is working to improve the effectiveness of Head Start in important areas such as supporting early literacy, strengthening parental involvement and assuring that all children achieve measurable improvement as a result of participating in Head Start.

There are a number of organizations and institutions with innovative concepts, projects and products that could help improve the effectiveness and management of local Head Start and Early Head Start sites. It is the intent of ACYF to solicit proposals for innovations and improvements so these efforts can be identified and considered. If they are found to have merit, ACYF plans to provide financial assistance so they can be further developed or assessed and made available to local Head Start programs. This is the first of what we expect will be periodic solicitations of this type.

Many organizations (at the national, state and local level) seek the Head Start Bureau's guidance because they have seen a need for activities that will improve the quality of Head Start programming. These are organizations that wish to respond and do not have the capacity but have valid concepts, products, and projects that address the President's priorities for improving the comprehensive services provided by the Head Start Bureau. This competition will assess the feasibility of funding some of these projects. The focus will be on developing new concepts, products, and projects, primarily related to the important priorities and special needs listed in part II. However, this competition is not limited to these priority areas.

This solicitation will be carried out in a three-phase process: (1) Abstract submittal; (2) planning grant application submission by successful abstract applicants; and (3) implementation grant awards to a limited number of successful planning grant recipients. Interested parties are therefore expected to detail in the abstract the long-term goals and strategies to be implemented, if awarded a subsequent implementation grant. They should also describe the benefits of the planning grant (up to nine months in duration) in terms of how it will be used to prepare for the implementation phase.

Background

Head Start, established in 1965, is a comprehensive child development program currently serving annually over 900,000 primarily young children in low-income families, from three years of age to the age of mandatory school attendance. Since the addition of Early Head Start in 1995, children from birth to three, pregnant women and their families are also included. Grants for Head Start and Early Head Start programs are awarded to local public and private agencies by the Administration for Children and Families (ACF) in the U.S. Department of Health and Human Services (HHS). Over 2,100 grantees and delegate agencies provide these programs in every state, Puerto Rico, Virgin Islands, Outer Pacific, as well as American Indian/Alaska Natives and Migrant/Seasonal Farm Worker populations.

Head Start has a long tradition of delivering comprehensive services designed to foster healthy development in the most vulnerable young children, including those with disabilities. Head Start and Early Head Start grantees and delegate agencies provide a range of individualized services in the areas of education and early childhood development; medical, dental, mental health and nutrition; and family and community partnership development through parent involvement. In addition, the entire range of Head Start services is responsive and appropriate to each child and family's developmental, ethnic, cultural and linguistic heritage and experience.

Part II: Priority Areas

This request for abstracts, and subsequent planning grant applications from a successful sub-set of those abstracts submitted, is an effort to meet program needs and enhance and support current Presidential and Departmental Initiatives related to the mission of the Head Start Bureau. The priority areas to be addressed in this announcement include, but are not limited to, Early Literacy Development; Improving Services to Rural Areas; Positive Youth Development; and Strengthening Families/Fatherhood. Eligible applicants are invited to submit applications for innovation and improvement in any aspect of Head Start services. Conceivably proposals could address improvements in transportation services, nutrition services, services to special populations, program management and a number of other areas.

Early Literacy Development: Research shows that early literacy development is a strong predictor of later success in school and work. With well-developed language and early literacy skills, all children can enter school ready to learn. Many risk factors that affect academic progress may be ameliorated by the efforts of early care providers armed with solid information and skills about how to best systematically engage children and their families in the use of language and the joy of reading.

Improving Services to Rural Areas: Ensuring the health and welfare of the 65 million rural residents is an essential part of a national policy that promotes the self-sufficiency of all Americans. These rural areas frequently experience difficulties related to inadequate funds, personnel and support networks that hinder services. The intent of the Rural Initiative, as it relates to Head Start, is to examine ways to improve and enhance the provision of health care and human services to rural communities serving Head Start children and families.

Positive Youth Development: This initiative includes providing technical assistance and support to after-school and summer programs; exploring the impact on adolescents of intensive parental employment under welfare reform; and partnering with other federal agencies, states, communities and private organizations in support of youth development services. In the context of Head Start, projects could include ways to involve older youth and siblings in the family partnership process and supporting services as well as learning and community building opportunities for youth. Strengthening Families/Fatherhood: Nearly 25 million children in the United States are growing up in homes without fathers and the potential impact is troubling. These children are more likely to live in poverty, perform poorly in school, engage in criminal activity, and abuse drugs and alcohol. The President has made promoting responsible fatherhood a national priority. The following principles guide this initiative in support of improving the stability and healthy development of our nation's children and youth: (1) All fathers can be important contributors to the well-being of their children; (2) parents are partners in raising their children, even when they do not live in the same household; (3) the roles fathers play in families are diverse and related to cultural and community norms; (4) men should receive the education and support necessary to prepare them for the responsibility of parenthood; and (5) government can encourage and promote father involvement through its programs and through its own workforce policies. Projects under this priority could include efforts to help Head Start fathers establish positive relationships with their children, provide financial and emotional support, and develop responsible parenting skills.

Part III. Competitive Criteria and General Instructions

Applicants must first submit an abstract as described in the application section below. Please read this section carefully. Abstracts must comply with the application guidelines. Abstracts that do not comply with the application guidelines will not be considered. Abstracts must be received in the following format: 12 point font size;

Single spaced text with double spaces between paragraphs; maximum ten pages; 1-inch top and bottom, left and right, margins.

Title Page

This page should include a reference to the program announcement: Head Start Innovation and Improvement Projects—Abstract; title of proposed project; name of applicant; mailing address, telephone number, fax number, and e-mail address of the lead contact. (This will be the information used by ACYF to request full proposals from selected applicants.) The title page must include the total number of months needed for completion of the planning phase, the total federal budget requested and the project's proposed start and end date. This should be the only information on the title page.

Abstracts must include the material indicated below. The information provided in items 1 through 5 is not to exceed ten pages. Abstracts will be scored using criteria 1 through 5, maximum points 100.

1. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

2. Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, describe the tasks needed to accomplish the proposed project planning in Phase 2 and implementation in Phase 3 and any relevant data source to support the work. When activities and functions cannot be quantified, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

3. Results or Benefits Expected

Identify the results and benefits to be derived.

4. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

5. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Part IV. The Review Process

An independent review panel will review and score all abstracts that are submitted by the deadline date and which meet the screening criteria (all information and in formats required by this Announcement). The panel will review the abstracts using the evaluation criteria listed below to score each abstract. The review results will be the primary elements used by the Commissioner, ACYF, in making decisions regarding request for a full application submission. In addition, ACYF may also obtain comments on abstracts from other Federal or State staff, specialists, and experts.

Subsequently, when applications for planning grants are solicited from successful applicants in the abstract phase, an independent review panel will again review and score all planning grant applications submitted utilizing criteria 1 through 5, listed below, maximum 100 points.

1. Objectives and Need for Assistance (30 points)

The goals and objectives must address one of the stated priorities or another relevant area and clearly state the expected outcomes. The proposed project must substantiate its capacity to improve the quality and effectiveness of local Head Start program services.

2. Approach (25 points)

The design of the approach must identify the tasks necessary to carry out the project in ways that will accomplish quantifiable high quality results in Phase 2, planning, and Phase 3, implementation.

3. Results or Benefits Expected (20 points)

Conceptualize the proposed work and discuss the relevance of the proposed work to the purposes of this announcement and the priority or other areas selected. Clearly articulate the anticipated benefits to the Head Start community.

4. Organizational Profiles (15 points)

Information must be provided on the capacity of the offeror to implement the proposed plan. The relevant experience and proposed roles of key staff and other individuals proposed must be included. In addition, a reflection of community commitment is required. Provide a biographical sketch for each key person appointed and a job description for each vacant key position. A biographical sketch will also be required for new key staff as appointed.

Other individuals must be identified with a brief description of their relevancy and an indication of the tasks or activities for which they will be primarily responsible. Corporate capacity and community commitment are also to be addressed.

5. Budget and Budget Justification (10 points)

Applicants must provide an estimate of the total proposed budget (planning and implementation), including information about other funding sources. The budget must be reasonable for the proposed scope of work. Budget narrative is not required with the abstract. Only those invited to submit a complete Phase 2 planning proposal will need to prepare a detailed budget narrative for the proposed Phase 2 and 3 work.

Applicable Administrative Regulations

Applicable administrative regulations include 45 CFR part 74, Administration of Grants, for non-profit agencies; and 45 CFR part 92, Uniform Administrative Requirements for Grants and Cooperative Agreements to State and Local Governments.

Post-Award Reporting Requirements

Post award reporting requirements include submission of quarterly programmatic and budget reports.

Estimate of Schedule

ACYF anticipates that abstracts will be reviewed and selected applicants notified to submit full planning proposals approximately 60 days following the deadline for submission of abstracts. We expect that full planning proposals will be required to be submitted within 45 days of the date of the notification letter informing the applicant that their abstract has been accepted.

Paperwork Reduction Act of 1995 (Pub. L. 104-13)

Public reporting burden for this collection of information is estimated to average 10 hours per response, including the time for reviewing instructions, gathering and maintaining the data needed and reviewing the collection information.

The project description is approved under OMB control number 0970-0139 which expires 12/31/2003. An agency may not conduct or sponsor, and a person is not required to respond to, a collection of information unless it displays a currently valid OMB control number.

Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, and Washington have elected to participate in the Executive Order process and have established Single Points of Contact (SPOCs). Applicants from these 24 jurisdictions need take no action regarding E.O. 12372. Applicants for projects to be administered by Federally recognized Indian tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger “the accommodate or explain” rule. When SPOC comments are submitted directly to ACYF, they should be addressed to: William Wilson, ACYF's Office of Grants Management, Room 2220, Switzer Building, 330 C Street, SW., Washington, DC 20447. A list of the Single Points of Contact for each State and Territory can be found on the Web site http://www.whitehouse.gov/omb/grants/spoc.html.

Dated: March 5, 2003.
Joan E. Ohl,
Commissioner, Administration on Children, Youth and Families.

[FR Doc. 03-5721 Filed 3-10-03; 8:45 am]

BILLING CODE 4184-01-P